DEPARTMENT OF LABOR

Employment and Training Administration

[TA-W-54,361]

Kimberly Clark Corporation, Kimtech Plant, Neenah, WI; Notice of Affirmative Determination Regarding Application for Reconsideration

By letter of April 20, 2004, International Association of Machinists and Aerospace Workers requested administrative reconsideration of the Department of Labor's Notice of Negative Determination Regarding Eligibility to Apply for Worker Adjustment Assistance, applicable to workers of the subject firm. The Department's determination notice was signed on March 26, 2004. The Notice was published in the Federal Register on May 24, 2004 (69 FR 29575).

The Department reviewed the request for reconsideration and has determined that the petitioners have provided additional information regarding a shift in production to Mexico. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 25th day of May 2004.
Elliott S. Kushner,
Certifying Officer, Division of Trade Adjustment Assistance.

[FR Doc. 04-12876 Filed 6-7-04; 8:45 am]

BILLING CODE 4510-30-P